DEPARTMENT OF VETERANS AFFAIRS

[OMB Control No. 2900-0362]

Agency Information Collection (Claim Under Loan Guaranty/Claim Form—Adjustable Rate Mortgages) Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before May 1, 2008.

ADDRESSES: Submit written comments on the collection of information through http://www.Regulations.gov or to VA's OMB Desk Officer, OMB Human Resources and Housing Branch, New Executive Office Building, Room 10235, Washington, DC 20503 (202) 395-7316. Please refer to “OMB Control No. 2900-0362” in any correspondence.

FOR FURTHER INFORMATION CONTACT: Denise McLamb, Records Management Service (005R1B), Department of Veterans Affairs, 810 Vermont Avenue, NW., Washington, DC 20420, (202) 461-7485, FAX (202) 273-0443 or e-mail denise.mclamb@mail.va.gov. Please refer to “OMB Control No. 2900-0362.”

SUPPLEMENTARY INFORMATION:

Titles:

a. Claim Under Loan Guaranty, VA Form 26-1874.

b. Claim Form—Adjustable Rate Mortgages, VA Form 26-1874a.

OMB Control Number: 2900-0362.

Type of Review: Extension of a currently approved collection.

Abstract:

a. Lenders and holders of VA guaranteed home loans use VA Form 26-1874 as notification to VA of default of such loans.

b. Lenders and holders of VA loans submit VA Form 26-1874a as an attachment to VA Form 26-1874 when filing a claim under the loan guaranty resulting from the termination of an Adjustable Rate Mortgage Loan. The information obtained on both forms is use to determine the amount owed to the holder under the guaranty home loan.

An agency may not conduct or sponsor, and a person is not required to respond to a collection of information unless it displays a currently valid OMB control number.

The Federal Register Notice with a 60-day comment period soliciting comments on this collection of information was published on January 23, 2008, at pages 4046-4047.

Affected Public: Business or other for profit.

Estimated Annual Burden:

a. VA Form 26-1874—25,806 hours.

b. VA Form 26-1874a-333 hours.

Estimated Average Burden Per Respondent:

a. VA Form 26-1874—60 minutes.

b. VA Form 26-1874a—20 minutes.

Frequency of Response: On occasion.

Estimated Number of Total Respondents:

a. VA Form 26-1874—25,806.

b. VA Form 26-1874a—1,000.

Dated: March 25, 2008.
By direction of the Secretary.
Denise McLamb,
Program Analyst, Records Management Service.

[FR Doc. E8-6593 Filed 3-31-08; 8:45 am]

BILLING CODE 8320-01-P